DEPARTMENT OF COMMERCE

National Oceanic and Atmospheric Administration

[RTID 0648-XB624]

Pacific Fishery Management Council; Public Meetings; Public Hearings

AGENCY: National Marine Fisheries Service (NMFS), National Oceanic and Atmospheric Administration (NOAA), Commerce.

ACTION: Notice of availability of reports; public meetings, and hearings.

SUMMARY: The Pacific Fishery Management Council (Pacific Council) has begun its annual preseason management process for the 2022 ocean salmon fisheries. This document announces the availability of Pacific Council documents, as well as the anticipated dates and locations of upcoming Pacific Council meetings and public hearings hosted by the Pacific Council. These documents and events comprise the Pacific Council's complete schedule for determining the annual proposed and final modifications to ocean salmon fishery management measures. The agendas for the March and April 2022 Pacific Council meetings will be published in subsequent Federal Register documents prior to the actual meetings.

DATES: Written comments on the salmon management alternatives must be submitted through the Pacific Council's e-portal (https://pfmc.psmfc.org) and received by the public comment deadline prior to the April 2022 Council meeting. Information will be available on the Pacific Council's website (http://www.pcouncil.org) as the date for the April Council meeting approaches.

ADDRESSES:

Meeting address: Pacific Fishery Management Council, 7700 NE Ambassador Place, Suite 101, Portland, OR 97220-1384, telephone: (503) 820-2280 (voice) or (503) 820-2299 (fax).

Council address: Pacific Fishery Management Council, 7700 NE Ambassador Place, Suite 101, Portland, OR 97220.

FOR FURTHER INFORMATION CONTACT: Ms. Robin Ehlke, Staff Officer, Pacific Council; telephone: (503) 820-2410.

SUPPLEMENTARY INFORMATION:

February 15, 2022: “Review of 2021 Ocean Salmon Fisheries, Stock Assessment and Fishery Evaluation Document for the Pacific Coast Salmon Fishery Management Plan” is scheduled to be posted on the Pacific Council website at http://www.pcouncil.org.

March 4, 2022: “Preseason Report I—Stock Abundance Analysis and Environmental Assessment Part 1 for 2022 Ocean Salmon Fishery Regulations” is scheduled to be posted on the Pacific Council website at http://www.pcouncil.org.

March 22, 2022: “Preseason Report II—Proposed Alternatives and Environmental Assessment Part 2 for 2022 Ocean Salmon Fishery Regulations.” The report will include a description of the adopted salmon management alternatives and a summary of their biological and economic impacts. The public hearings schedule will also be included on the inside cover of the report and will be posted on the Pacific Council website at http://www.pcouncil.org.

April 22, 2022: “Preseason Report III—Council-Adopted Management Measures and Environmental Assessment Part 3 for 2022 Ocean Salmon Fishery Regulations” is scheduled to be posted on the Pacific Council website at http://www.pcouncil.org.

May 16, 2022: Federal regulations for 2022 ocean salmon regulations are published in the Federal Register and implemented.

Meetings and Hearings

January 18-21, 2022: The Salmon Technical Team (STT) will meet online in a public work session to draft “Review of 2021 Ocean Salmon Fisheries, Stock Assessment and Fishery Evaluation Document for the Pacific Coast Salmon Fishery Management Plan” and to consider any other estimation or methodology issues pertinent to the 2022 ocean salmon fisheries. The STT may also discuss additional topics as time allows, including but not limited to a harvest control rule for southern Oregon/Northern California Coast coho salmon, potential impacts to fishery management due to COVID-19 in 2021, ecosystem or administrative matters on the Pacific Council's March and April 2022 meetings, and various salmon related topics of pertinence.

February 22-25, 2022: The STT will meet online in a public work session to draft “Preseason Report I—Stock Abundance Analysis and Environmental Assessment Part 1 for 2022 Ocean Salmon Fishery Regulations” and to consider any other estimation or methodology issues pertinent to the 2022 ocean salmon fisheries. The STT may also discuss additional topics as time allows, including but not limited to a harvest control rule for southern Oregon/Northern California Coast coho salmon, potential impacts to fishery management due to COVID-19 in 2021, ecosystem or administrative matters on the Pacific Council's March and April 2022 meetings, and various salmon related topics of pertinence.

March 22-23, 2022: Three public hearings will be held to receive comments on the proposed 2022 ocean salmon fishery management alternatives adopted by the Pacific Council. Each public hearing will be state-specific and begin at 7 p.m. Public hearings focusing on Washington and California salmon fisheries will occur simultaneously on March 22, and the public hearing for Oregon salmon fisheries will occur on March 23. These public hearings are tentatively scheduled to occur in person, in the cities of Westport, Washington; Coos Bay, Oregon; and Eureka, California; however, the status of the COVID-19 pandemic may require the meetings to be held online due to public health and safety concerns. Actual hearing venues or instructions for joining online hearings will be posted on the Pacific Council's website (http://www.pcouncil.org) in advance of the hearing dates.

A summary of oral comments heard at the hearings will be provided to the Pacific Council at its April meeting. Written comments on the salmon management alternatives must be submitted through the Pacific Council's e-portal (http://www.pcouncil.org).

Specific meeting information, including instructions on how to join the meeting and system requirements will be provided in meeting announcements on the Pacific Council's website (see www.pcouncil.org). You may send an email to Mr. Kris Kleinschmidt (kris.kleinschmidt@noaa.gov) or contact him at (503) 820-2412 for technical assistance.

Although non-emergency issues not contained in the STT meeting agendas may come before the STT for discussion, those issues may not be the subject of formal STT action during these meetings. STT action will be restricted to those issues specifically listed in this document and to any issues arising after publication of this document requiring emergency action under Section 305(c) of the Magnuson-Stevens Fishery Conservation and Management Act, provided the public has been notified of the STT's intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: December 6, 2021.
Tracey L. Thompson,
Acting Deputy Director, Office of Sustainable Fisheries, National Marine Fisheries Service.

[FR Doc. 2021-26687 Filed 12-8-21; 8:45 am]

BILLING CODE 3510-22-P